NATIONAL CREDIT UNION ADMINISTRATION

Agency Information Collection Activities: Submission to OMB for Review; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until September 13, 2006.

ADDRESSES: Interested parties are invited to submit written comments to NCUA Clearance Officer listed below:

Clearance Officer: Mr. Neil McNamara, National Credit Union Administration, 1775 Duke Street, Alexandria, VA 22314-3428, Fax No. 703-837-2861, E-mail: mcnamara@ncua.gov.

FOR FURTHER INFORMATION: Requests for additional information or a copy of the information collection request, should be directed to Tracy Sumpter at the National Credit Union Administration, 1775 Duke Street, Alexandria, VA 22314-3428, or at (703) 518-6444.

SUPPLEMENTARY INFORMATION: Proposal for the following collection of information:

OMB Number: 3133-0144.

Form Number: N/A.

Type of Review: Extension of a currently approved collection.

Title: Examination Survey.

Description: To provide Federal credit unions with an opportunity to give NCUA feedback on its examination procedures. NCUA will use the information to evaluate and improve the examination process.

Respondents: Credit unions.

Estimated No. of Respondents/Recordkeepers: 5391.

Estimated Burden Hours Per Response: 5 minutes.

Frequency of Response: Reporting, and annually.

Estimated Total Annual Burden Hours: 449 hours.

Estimated Total Annual Cost: $0.00.

By the National Credit Union Administration Board on August 8, 2006.
Mary Rupp,
Secretary of the Board.

[FR Doc. E6-13264 Filed 8-11-06; 8:45 am]

BILLING CODE 7535-01-P